DEPARTMENT OF AGRICULTURE

Forest Service

Magdalena Ridge Observatory, Cibola National Forest, Socorro County, NM

AGENCY: Forest Service, USDA.

ACTION: Notice; intent to prepare an environmental impact statement.

SUMMARY: The Forest Service will prepare an environmental impact statement on a proposal to issue an amended Special Use Permit to the New Mexico Institute of Mining and Technology (NMT). The proposed amendment, referred to as the Magdalena Ridge Observatory project (MRO), would allow NMT to construct and operate a new observatory and its associated facilities within the existing 1,000 acre Principle Research Area of the Langmuir Laboratory for Atmospheric Research site located on Magdalena Ridge on the Magdalena Ranger District of the Cibola National Forest. The observatory and its associated facilities would consist of two main parts: (1) the scientific equipment consisting of an interferometer telescope array of 16 telescopes at full build out, its associated infrastructure including about 85,000 square feet of parking areas and roadways, and a single 2.5 meter stand-alone telescope; (2) educational and research support facilities that would cover about 52,000 square feet. Construction would take place over four to five years, and include a new utility corridor to supply additional power and water to the ridge top site.

DATES: Comments concerning the scope of the analysis should be received in writing by November 29, 2002. The draft environmental impact statement is expected in March 2003, for a 45 day comment period and the final environmental impact statement is expected at the end of September, 2003.

ADDRESSES: Send written comments to: SAIC, Att: Susan Goodan, 2109 Air Park Road, SE Albuquerque, NM, 87106 or send your comments electronically to goodans@saic.com.

FOR FURTHER INFORMATION CONTACT: Laura Hudnell, Forest Service MOR Liaison, P.O. Box 45, Magdalena, NM 87825, 505.854.2281. Send e-mail correspondences to Ihudnell@fs.fed.us.

SUPPLEMENTARY INFORMATION: The proposed site for the New Magdalena Ridge Observatory (MRO) facilities is within Langmuir Research Site, a 31,000-acre area set aside by Congress in 1980, under Public Law 96-550, for the purpose of encouraging scientific research into atmospheric processes and astronomical phenomena. New Mexico Institute of Mining and Technology (NMT) is part of a consortium of universities along with the U.S. Navy, Naval Research Laboratory (NRL) that would develop this facility. The observatory would feature both a conventional telescope and an interferometer array of telescopes that function together to provide more resolution than that which is available from a single telescope. This innovative technology has been pioneered by NRL at the Navy Prototype Optical Inteferometer (NPOI) near Flagstaff, Arizona. Experience from developing NPOI would be applied to this proposed facility with further refinements that would improve capabilities for high-resolution observations. The observatory's primary purpose would be for education and optical and astronomical research by NMT and the consortium members. A secondary purpose would be to support passive observing techniques for identifying satellites and to track missiles during tests at White Sands Missile Range.

The primary purpose of the MRO would be education and research by NMT and other consortium members. The facility would provide access to state-of-the-art telescopes, cameras, spectrometers, and associated equipment. There is an acute need for high-tech education in New Mexico, where the economy is closely tied to science and engineering. The MRO would serve the academic research community by providing telescopes for research and development of research techniques. This is important and timely, and the need is great due to the ongoing closing of several research telescopes at other observatories, which has handicapped the research community. The observatory would also provide public outreach, programs for K-12 students, courses for K-12 teachers, research experiences for undergraduates, and support of research by graduate students.

A secondary purpose would be to support the defense community. Using the interferometer array, passive observing techniques for identifying satellites could be developed. This would serve a national need to know how well satellites are performing and to improve their performance if they malfunction. A stand-alone, single telescope would be able to track missiles during tests sat the White Sands Missile Range. Also, this telescope could be used as a test bed for new instruments and sensors and could be used to develop new surveillance technologies.

Proposed Action

To amend the existing Special Use Permit to the New Mexico Institute of Mining and Technology (NMT) to allow NMT to construct and operate a new observatory, called the Magdalena Ridge Observatory, on the ridge of the Magdalena Mountains. The new facilities would be situated on the ridge of the Magdalena Mountains between the main Langmuir Laboratory Principle Research Area and South Baldy Peak. Physical development would have two main parts: (1) the scientific equipment consisting of an interferometer array and associated infrastructure, and a single stand-alone telescope; and, (2) educational and research support facilities. An area of about 80 acres would be delineated as the primary science area where only the interferometer array and main telescope and associated support facilities would be located. The educational and supporting facilities would be located outside this area to reduce wind turbulence that can interfere with viewing objects in space. Fencing would be erected around some facilities, including the array, to prevent damage to the scientific equipment, for example, by livestock or recreationists. About 52,000 square feet (SF) of new enclosed facilities would be constructed, and about 85,000 SF of compacted gravel parking areas and roadway. A trench for new utilities lines (about one mile in length and five feet wide) would be dug. Excavations for building foundations and pits for water storage tanks and septic fields may involve blasting. Construction activities could directly disturb about six to eight acres and a larger area (about 10 to 12 acres) may be affected from operating construction equipment. Construction would take place over four to five years.

There is an acute need for high-tech education in New Mexico, where the economy is closely tied to science and engineering. The MRO would serve the academic research community by providing telescopes for research and development of research techniques. This is important and timely, and the need is great due to the ongoing closing of several research telescopes at other observatories, which has handicapped the research community.

The purpose and need of the Magdalana Ridge Observatory (MRO) are: (1) Education and research by NMT and other consortium members, (2) provide access to state-of-the-art telescopes, cameras, spectrometers, and associated equipment, (3) provide public outreach programs for K-12 students, courses for K-12 teachers, research experiences for undergraduates, and support of research by graduate students, (4) support to the defense community by using the interferometer array, passive observing techniques for identifying satellites, (5) assist in the need to know how well satellites are performing and to improve their performance if they malfunction, (6) support of tests at the white Sands Missile Range and a test bed for new instruments and sensors that could be used to develop new surveillance technologies.

Overall guidance for land management activities in the project area is provided by the Cibola National Forest Plan (U.S. Department of Agriculture, 1985). The proposed area is also covered by an existing Special Use Permit, Number 70, for the Langmuir Laboratory and the Operation and Maintenance Plan of May 2002 for the Langmuir Laboratory.

Possible Alternatives

No Action Alternative—This alternative will serve as the baseline for the project and display the existing resource conditions. Under this alternative no modifications would be made to the Special Use Permit to the New Mexico Institute of Mining and Technology (NMT) nor would there be construction to operate a new observatory and its associated facilities.

Full Build Out Alternative.—This would involve all sixteen telescopes at one time instead of seven. This would be similar to the proposed, with the exception of the number of telescopes being installed at one time.

Optical Laser Techniques Alternative—This alternative would involve the use of adaptive optical techniques utilizing laser guide stars. A laser system of about 100 watts of power would be included with the scientific facilities identified in the proposed action.

24/24 Alternative—This would involve adding two additional movable telescopes with mirrors of approximately 2.4 meters, linked to the interferometer array located south of the proposed single telescope site.

Lead and Cooperating Agencies

the USDA Forest Service, Cibola National Forest will be the lead agency for this proposed project. The U.S. Navy, Naval Research Laboratory (NRL) is a cooperating agency. New Mexico Institute of Mining and Technology (NMT) is also a cooperating agency and part of a consortium of universities cooperating on this project.

Responsible Official

Cibola National Forest Supervisor, 2113 Osuna Road NE., Suite A, Albuquerque, NM 87113-1001.

Nature of Decision To Be Made

The USDA Forest Service must decide whether or not to amend the existing Special Use Permit that currently allows NMT to operate the Langmuir Laboratory for Atmospheric Research, to include the proposed observatory and its associated facilities.

Scoping Process

A Public Involvement and Communication Plan (PIC) will be developed. It will focus on methods to inform the public on the proposal and to solicit public comments to help identify issues, concerns and opportunities associated with the Proposed Action. A prescoping letter will be sent out the week of October 1, 2002, with a two week response period to assist the forest in focusing on those audiences who are interested in the proposed activity. Once responses have been returned from the pre-scoping letter, the PIC plan will be implemented. No specific meeting dates and locations have been identified at this time. The number, location and type of public involvement meetings to be held will be identified after comments have been returned from the pre-scoping letter.

Preliminary Issues

• Potential effects on Threatened and Endangered Species and habitat.

• Potential effects on visual quality from off-site locations on viewscape, including from adjacent ridges that may be used and/or have special value for Native American tribes.

• Potential effects of increased traffic on Water Canyon Road, and impact on private property inholdings and easements.

• Potential effects on recreation (such as cross country skiing and hunting) from new facilities and fenced areas.

• Potential effects on the Forest's ability to reduce fire risks within the Forest boundary and prevent catastrophic wildfire from increased human activity.

• Potential effects of developing and using a new water supply in an area where water for grazing operations is already stressed.

• Potential effects of slight reduction in area available for grazing, recreation, and other multiple uses that USFS determines to be incompatible with the primary use of the site for scientific purposes.

Permits or Licenses Required

Solid Waste, Air Quality, and Water Use.

Comment Requested

This Notice of Intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1987). Also, environmental objections that could be raised at the draft environmental impact statement stage but that are not raised could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the November 29, 2002, comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: September 27, 2002.
Liz Agpaoa,
Cibola Forest Supervisor.

[FR Doc. 02-25109 Filed 10-2-02; 8:45 am]

BILLING CODE 3410-11-M